DEPARTMENT OF ENERGY

Federal Energy Regulatory Commission

Combined Notice of Filings #1

Take notice that the Commission received the following exempt wholesale generator filings:

Docket Numbers: EG24-263-000.

Applicants: Mordor ES1 LLC.

Description: Mordor ES1 LLC submits Notice of Self-Certification of Exempt Wholesale Generator Status.

Filed Date: 8/28/24.

Accession Number: 20240828-5114.

Comment Date: 5 p.m. ET 9/18/24.

Docket Numbers: EG24-264-000.

Applicants: Mordor ES2 LLC.

Description: Mordor ES2 LLC submits Notice of Self-Certification of Exempt Wholesale Generator Status.

Filed Date: 8/28/24.

Accession Number: 20240828-5115.

Comment Date: 5 p.m. ET 9/18/24.

Take notice that the Commission received the following electric rate filings:

Docket Numbers: ER10-1391-003.

Applicants: San Diego Gas & Electric Company.

Description: Compliance filing: San Diego Gas & Electric submits tariff filing per 35: SDG&E WDAT Update Volume 6 Filing to be effective 8/15/2024.

Filed Date: 8/28/24.

Accession Number: 20240828-5101.

Comment Date: 5 p.m. ET 9/18/24.

Docket Numbers: ER23-2836-003.

Applicants: Basin Electric Power Cooperative, Southwest Power Pool, Inc.

Description: Compliance filing: Basin Electric Power Cooperative submits tariff filing per 35: Settlement Compliance Filing of Basin in Response to August 2 Order to be effective 11/14/2023.

Filed Date: 8/28/24.

Accession Number: 20240828-5128.

Comment Date: 5 p.m. ET 9/18/24.

Docket Numbers: ER24-1403-002.

Applicants: Arizona Public Service Company.

Description: Tariff Amendment: Response to Second Deficiency—MBR Tariff Revisions to be effective 10/28/2024.

Filed Date: 8/28/24.

Accession Number: 20240828-5113.

Comment Date: 5 p.m. ET 9/18/24.

Docket Numbers: ER24-2643-001.

Applicants: Arizona Public Service Company.

Description: Tariff Amendment: Rate Schedule No. 217, Exhibit B-BKE.LIB to be effective 10/28/2024.

Filed Date: 8/28/24.

Accession Number: 20240828-5072.

Comment Date: 5 p.m. ET 9/18/24.

Docket Numbers: ER24-2884-000.

Applicants: WestRock CP, LLC.

Description: Notice of Cancellation of Market Based Rate Tariff of WestRock CP, LLC.

Filed Date: 8/26/24.

Accession Number: 20240826-5177.

Comment Date: 5 p.m. ET 9/16/24.

Docket Numbers: ER24-2885-000.

Applicants: PJM Interconnection, L.L.C.

Description: § 205(d) Rate Filing: Partial Deployment of Synchronized Reserves Proposal to be effective 8/6/2024.

Filed Date: 8/27/24.

Accession Number: 20240827-5201.

Comment Date: 5 p.m. ET 9/17/24.

Docket Numbers: ER24-2886-000.

Applicants: Central Hudson Gas & Electric Corporation.

Description: § 205(d) Rate Filing: Revision to FERC Rate Schedule 206 to be effective 8/1/2024.

Filed Date: 8/27/24.

Accession Number: 20240827-5207.

Comment Date: 5 p.m. ET 9/17/24.

Docket Numbers: ER24-2887-000.

Applicants: Dominion Energy South Carolina, Inc.

Description: Tariff Amendment: Termination of GA Power Co Affected System Agr to be effective 10/28/2024.

Filed Date: 8/28/24.

Accession Number: 20240828-5016.

Comment Date: 5 p.m. ET 9/18/24.

Docket Numbers: ER24-2888-000.

Applicants: Atlantic City Electric Company, PJM Interconnection, L.L.C.

Description: § 205(d) Rate Filing: Atlantic City Electric Company submits tariff filing per 35.13(a)(2)(iii: ACE submits Revisions to OATT Attachment H-1 to be effective 12/2/2024.

Filed Date: 8/28/24.

Accession Number: 20240828-5033.

Comment Date: 5 p.m. ET 9/18/24.

Docket Numbers: ER24-2889-000.

Applicants: Baltimore Gas and Electric Company, PJM Interconnection, L.L.C.

Description: § 205(d) Rate Filing: Baltimore Gas and Electric Company submits tariff filing per 35.13(a)(2)(iii: BGE submits Revisions to OATT Attachment H-2 to be effective 12/2/2024.

Filed Date: 8/28/24.

Accession Number: 20240828-5034.

Comment Date: 5 p.m. ET 9/18/24.

Docket Numbers: ER24-2890-000.

Applicants: Commonwealth Edison Company, PJM Interconnection, L.L.C.

Description: § 205(d) Rate Filing: Commonwealth Edison Company submits tariff filing per 35.13(a)(2)(iii: ComEd submits revisions to OATT Attachment H-13 to be effective 12/2/2024.

Filed Date: 8/28/24.

Accession Number: 20240828-5035.

Comment Date: 5 p.m. ET 9/18/24.

Docket Numbers: ER24-2891-000.

Applicants: Delmarva Power & Light Company, PJM Interconnection, L.L.C.

Description: § 205(d) Rate Filing: Delmarva Power & Light Company submits tariff filing per 35.13(a)(2)(iii: Delmarva submits revisions to OATT Attachment H-3 to be effective 12/2/2024.

Filed Date: 8/28/24.

Accession Number: 20240828-5036.

Comment Date: 5 p.m. ET 9/18/24.

Docket Numbers: ER24-2893-000.

Applicants: PECO Energy Company, PJM Interconnection, L.L.C.

Description: § 205(d) Rate Filing: PECO Energy Company submits tariff filing per 35.13(a)(2)(iii: PECO submits revisions to OATT Attachment H-7 to be effective 12/2/2024.

Filed Date: 8/28/24.

Accession Number: 20240828-5038.

Comment Date: 5 p.m. ET 9/18/24.

Docket Numbers: ER24-2894-000.

Applicants: Potomac Electric Power Company, PJM Interconnection, L.L.C.

Description: § 205(d) Rate Filing: Potomac Electric Power Company submits tariff filing per 35.13(a)(2)(iii: Pepco submits revisions to OATT Attachment H-9 to be effective 12/2/2024.

Filed Date: 8/28/24.

Accession Number: 20240828-5041.

Comment Date: 5 p.m. ET 9/18/24.

Docket Numbers: ER24-2895-000.

Applicants: Arizona Public Service Company.

Description: § 205(d) Rate Filing: Rate Schedule No. 217, Exhibit B Revisions to be effective 10/28/2024.

Filed Date: 8/28/24.

Accession Number: 20240828-5068.

Comment Date: 5 p.m. ET 9/18/24.

Docket Numbers: ER24-2896-000.

Applicants: ALLETE, Inc.

Description: Initial rate filing: CMA for the Northland Reliability Project to be effective 8/29/2024.

Filed Date: 8/28/24.

Accession Number: 20240828-5073.

Comment Date: 5 p.m. ET 9/18/24.

Docket Numbers: ER24-2897-000.

Applicants: Mordor ES1 LLC.

Description: § 205(d) Rate Filing: Application for Market Based Rate Authority to be effective 8/29/2024.

Filed Date: 8/28/24 .

Accession Number: 20240828-5089.

Comment Date: 5 p.m. ET 9/18/24.

Docket Numbers: ER24-2898-000.

Applicants: Mordor ES2 LLC.

Description: § 205(d) Rate Filing: Application for Market Based Rate Authorty to be effective 8/29/2024.

Filed Date: 8/28/24.

Accession Number: 20240828-5090.

Comment Date: 5 p.m. ET 9/18/24.

Docket Numbers: ER24-2899-000.

Applicants: PJM Interconnection, L.L.C.

Description: § 205(d) Rate Filing: Original Service Agreement GIA No. 7337, AF2-238 to be effective 7/29/2024.

Filed Date: 8/28/24.

Accession Number: 20240828-5102.

Comment Date: 5 p.m. ET 9/18/24.

Docket Numbers: ER24-2900-000.

Applicants: Midcontinent Independent System Operator, Inc.

Description: § 205(d) Rate Filing: 2024-08-28_SA 4126 METC-Wolverine-MPPA-Eagle Creek Solar Park GIA (J1389) to be effective 8/14/2024.

Filed Date: 8/28/24.

Accession Number: 20240828-5116.

Comment Date: 5 p.m. ET 9/18/24.

Docket Numbers: ER24-2901-000.

Applicants: Alabama Power Company, Georgia Power Company, Mississippi Power Company.

Description: Tariff Amendment: Alabama Power Company submits tariff filing per 35.15: Origis Holdings USA Subco (O'Hara I Storage) LGIA Termination Filing to be effective 8/28/2024.

Filed Date: 8/28/24.

Accession Number: 20240828-5120.

Comment Date: 5 p.m. ET 9/18/24.

Docket Numbers: ER24-2902-000.

Applicants: NorthWestern Corporation.

Description: Tariff Amendment: Cancellation of SA 243 16th Rev—NITSA with CHS Inc. to be effective 5/13/2024.

Filed Date: 8/28/24.

Accession Number: 20240828-5125.

Comment Date: 5 p.m. ET 9/18/24.

Docket Numbers: ER24-2903-000.

Applicants: PJM Interconnection, L.L.C.

Description: Tariff Amendment: Notice of Cancellation—WMPA, Service Agreement No. 7234; AF1-112 to be effective 10/28/2024.

Filed Date: 8/28/24.

Accession Number: 20240828-5129.

Comment Date: 5 p.m. ET 9/18/24.

Docket Numbers: ER24-2904-000.

Applicants: Duke Energy Florida, LLC.

Description: Tariff Amendment: DEF-TEA Cancellation of SA No. 140 to be effective 10/31/2024.

Filed Date: 8/28/24.

Accession Number: 20240828-5130.

Comment Date: 5 p.m. ET 9/18/24.

Docket Numbers: ER24-2905-000.

Applicants: PJM Interconnection, L.L.C.

Description: § 205(d) Rate Filing: Revisions to the Schedule Selection Process for Offer Capped Resources to be effective 10/28/2024.

Filed Date: 8/28/24.

Accession Number: 20240828-5151.

Comment Date: 5 p.m. ET 9/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 28, 2024.
Debbie-Anne A. Reese,
Acting Secretary.

[FR Doc. 2024-19885 Filed 9-4-24; 8:45 am]

BILLING CODE 6717-01-P